NUCLEAR REGULATORY COMMISSION

[NRC-2012-0113]

Proposed Revision 3 to Standard Review Plan, Section 19.1 on Determining the Technical Adequacy of Probabilistic Risk Assessment for Risk-Informed License Amendment Requests After Initial Fuel Load

AGENCY: Nuclear Regulatory Commission.

ACTION: Solicitation of public comment.

SUMMARY: The U.S. Nuclear Regulatory Commission (NRC) is soliciting public comment on NUREG-0800, “Standard Review Plan for the Review of Safety Analysis Reports for Nuclear Power Plants: LWR Edition,” on a proposed Revision 3 to Standard Review Plan (SRP), Section 19.1, “Determining the Technical Adequacy of Probabilistic Risk Assessment for Risk-Informed License Amendment Requests After Initial Fuel Load” (Agencywide Documents Access and Management System (ADAMS) Accession No. ML112990771). The Office of New Reactors and Office of Nuclear Reactor Regulation are revising SRP Section 19.1, which updates Revision 2 (ADAMS Accession No. ML071700657) dated June 2007, to reflect the changes as listed in the description of changes. These changes include (1) the regulatory requirements in Title 10 of the Code of Federal Regulations (10 CFR), 50.71(h)(1), (h)(2), and (h)(3) for new reactors, (2) applicability of the National Fire Protection Association 805 transition, and (3) latest information on probabilistic risk assessment technical adequacy for risk-informed license amendment requests after initial fuel load. A redline document comparing Revision 2 and the current proposed Revision 3 can be found under ADAMS Accession No. ML112990870.

The NRC staff issues Federal Register notices to facilitate timely implementation of the current staff guidance and to facilitate activities associated with the review of amendment applications

DATES: Comments must be filed no later than 30 days from the date of publication of this notice in the Federal Register. Comments received after this date will be considered, if it is practical to do so, but the Commission is able to ensure consideration only for comments received on or before this date.

ADDRESSES: You may access information and comment submissions related to this document by searching on http://www.regulations.gov under Docket ID NRC-2012-0113. You may submit comments by the following methods:

• Federal Rulemaking Web site: Go to http://www.regulations.gov and search for Docket ID NRC-2012-0113. Address questions about NRC dockets to Carol Gallagher; telephone: 301-492-3668; email: Carol.Gallagher@nrc.gov.

• Mail Comments To: Cindy Bladey, Chief, Rules, Announcements, and Directives Branch (RADB), Office of Administration, Mail Stop: TWB-05-B01M, U.S. Nuclear Regulatory Commission, Washington, DC 20555-0001.

• Fax Comments To: RADB at 301-492-3446.

For additional direction on accessing information and submitting comments, see “Accessing Information and Submitting Comments” in the SUPPLEMENTARY INFORMATION section of this document.

FOR FURTHER INFORMATION CONTACT: Ms. Amy E. Cubbage, Chief, Policy Branch, Division of Advanced Reactors and Rulemaking, Office of New Reactors, U.S. Nuclear Regulatory Commission, Washington, DC 20555-0001; telephone: 301-415-2875 or email at: amy.cubbage@nrc.gov.

SUPPLEMENTARY INFORMATION:

I. Accessing Information and Submitting Comments

A. Accessing Information

Please refer to Docket ID NRC-2012-0113 when contacting the NRC about the availability of information regarding this document. You may access information related to this document, which the NRC possesses and is publicly available, by any of the following methods:

• Federal Rulemaking Web Site: Go to http://www.regulations.gov and search for Docket ID NRC-2012-0113.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

B. Submitting Comments

Please include Docket ID NRC-2012-0113 in the subject line of your comment submission, in order to ensure that the NRC is able to make your comment submission available to the public in this docket.

The NRC cautions you not to include identifying or contact information in comment submissions that you do not want to be publicly disclosed. The NRC posts all comment submissions at http://www.regulations.gov as well as enters the comment submissions into ADAMS. The NRC does not routinely edit comment submissions to remove identifying or contact information.

If you are requesting or aggregating comments from other persons for submission to the NRC, then you should inform those persons not to include identifying or contact information in their comment submissions that they do not want to be publicly disclosed. Your request should state that the NRC does not routinely edit comment submissions to remove such information before making the comment submissions available to the public or entering the comment submissions into ADAMS.

The NRC is issuing this notice to solicit public comments on this SRP section 19.1, Revision 3. After the NRC staff considers public comments, it will make a determination regarding issuance of the final guidance.

Dated at Rockville, Maryland, this 14th day of May 2012.
For the Nuclear Regulatory Commission.
Amy E. Cubbage,
Chief, Policy Branch, Division of Advanced Reactors and Rulemaking, Office of New Reactors.

[FR Doc. 2012-12359 Filed 5-21-12; 8:45 am]

BILLING CODE 7590-01-P